DEPARTMENT OF THE INTERIOR

Fish and Wildlife Service

Record of Decision for the Final Comprehensive Conservation Plan and Environmental Impact Statement for the San Diego Bay National Wildlife Refuge (Sweetwater Marsh and South San Diego Bay Units)

AGENCY: Fish and Wildlife Service, Interior.

ACTION: Notice of availability of record of decision.

SUMMARY: The U.S. Fish and Wildlife Service (Service) announces the decision and availability of the Record of Decision (ROD) for the Final Comprehensive Conservation Plan and Environmental Impact Statement (Final CCP/EIS) for the Sweetwater Marsh and South San Diego Bay Units of the San Diego Bay National Wildlife Refuge (NWR or Refuge). A thorough analysis of the environmental, social, and economic considerations was completed and presented in the Final CCP/EIS. The Final CCP/EIS was released to the public and a Notice of Availability was published in the Federal Register on August 25, 2006. The ROD documents the Service's decision to adopt and implement Alternative C (Implement Habitat Enhancement and Restoration and Improve Existing Public Uses) for the Sweetwater Marsh Unit and Alternative D (Expand Habitat Management, Enhance Nesting Opportunities, Maximize Habitat Restoration, and Provide Additional Public Use Opportunities) for the South San Diego Bay Unit.

DATES: The ROD was signed by the Manager, California/Nevada Operations, U.S. Fish and Wildlife Service on September 29, 2006.

ADDRESSES: A copy of the ROD may be obtained by writing to: Victoria Touchstone, Refuge Planner, San Diego National Wildlife Refuge Complex, 6010 Hidden Valley Road, Carlsbad, CA 92011 or by e-mailing Victoria_Touchstone@fws.gov. A copy of the Final CCP/EIS and associated Appendices is available at the following Web site address: http://sandiegorefuges.fws.gov.

FOR FURTHER INFORMATION CONTACT: Victoria Touchstone, Refuge Planner, at the above street and e-mail address, or via telephone at (760) 431-9440 extension 349, or by fax at (760) 930-0256.

SUPPLEMENTARY INFORMATION: The San Diego Bay NWR, which consists of the Sweetwater Marsh and South San Diego Bay Units, is located approximately 10 miles north of the United States Mexico border in southwestern San Diego County, California. Collectively, the two Refuge Units encompass approximately 2,620 acres of land and water in and around the south end of San Diego Bay. The coastal wetlands protected within this Refuge annually provide essential foraging and resting habitat for tens of thousands of migratory shorebirds and wintering waterfowl traveling along the Pacific Flyway. The South San Diego Bay Unit also provides nesting habitat for a variety of colonial nesting seabirds.

The Sweetwater Marsh Unit was established as a National Wildlife Refuge in 1988. Encompassing approximately 316 acres, this Refuge was established to protect federally listed endangered and threatened species. The South San Diego Bay Unit was established in 1999 as a unit of the San Diego National Wildlife Refuge for the purpose of protecting, managing, and restoring habitats for federally listed endangered and threatened species and migratory birds. The Service currently manages approximately 2,300 acres of the 3,940 acres included within the Unit's approved acquisition boundary. The majority of this management area is leased to the Service by the California State Lands Commission.

The Final CCP will provide guidance for how the refuge, its resources, and compatible public uses should be managed over the next 15 years. Three alternatives for the Sweetwater Marsh Unit and four alternatives for the South San Diego Bay Unit, along with the consequences of implementing each alternative, were described in detail in the Draft and Final CCP/EIS. The Draft CCP/EIS was distributed for public review and comment on July 22, 2005 and comments were accepted through September 19, 2005. The Service received 38 written comment letters and four individuals presented verbal comments at a public meeting held on August 30, 2005. All substantive issues raised in these comments were addressed through changes incorporated into the Final CCP/EIS and/or through responses to the comments, which are included in Appendix P, Responses to Comments, of the Final CCP/EIS.

The ROD for the San Diego Bay NWR Final CCP/EIS has been prepared by the Service in compliance with the National Environmental Policy Act of 1969 (NEPA), as amended. It documents the decision of the Service, based on the information contained in the San Diego Bay NWR Final CCP/EIS and the entire Administrative Record. The Service adopted and plans to implement Alternative C (Implement Habitat Enhancement and Restoration and Improve Existing Public Uses) for the Sweetwater Marsh Unit and Alternative D (Expand Habitat Management, Enhance Nesting Opportunities, Maximize Habitat Restoration, and Provide Additional Public Use Opportunities) for the South San Diego Bay Unit. These alternatives have been identified by the Service as the alternatives that would best achieve refuge purposes and contribute toward the mission of the NWRS, consistent with sound principles of fish and wildlife science, conservation, legal mandates, and Service policies.

The selected alternatives recognize the need to provide high quality habitat for the Refuge's federally listed species, while also maintaining, and in some cases enhancing, the habitats needed to support the overall biological diversity of the Refuge. The selected alternatives also include expanded opportunities for compatible public use including wildlife observation, environmental education, and interpretation; provisions to protect cultural resources; recommendations for addressing existing contaminant issues; and proposals for establishing partnerships to address issues such as water quality, the accumulation of discarded fishing line around the bay, and stewardship of Refuge resources.

Alternative C for the Sweetwater Marsh Unit would improve habitat quality and restore intertidal and upland habitats to support six federally listed species, along with the Refuge's other plant and animal resources. The existing trail system on Gunpowder Point would be redesigned and new interpretive elements would be provided to better complement the existing environmental education programs supported by the Refuge.

Alternative D for the South San Diego Bay Unit would enhance nesting opportunities in and around the salt ponds for the California least tern, western snowy plover, and various other colonial seabirds; restore to native coastal habitats the former agricultural lands in the Otay River floodplain; restore 650 acres of commercial solar salt ponds to tidal influence to support intertidal mudflat and coastal salt marsh habitats; and manage the water and salinity levels in an additional 275 acres of salt ponds. Opportunities for wildlife observation, photography, and environmental interpretation would be expanded; a pedestrian pathway would be constructed along the southern end of the Refuge to improve wildlife observation opportunities for Refuge visitors; and the other public uses (i.e., fishing, environmental education, and boating) currently provided on the Refuge would be maintained.

The Service considered the environmental and relevant concerns presented by agencies, organizations, and individuals and believes that implementing Alternative C for the Sweetwater Marsh Unit and Alternative D for the South San Diego Bay Unit is the best way to achieve the vision and goals for the Refuge. The selected alternatives are also the most consistent with the purposes of the Refuge, the mission of the NWRS, the recovery actions proposed for those federally listed species that are supported by the Refuge, and the bird conservation recommendations relevant to this part of the Pacific Flyway. These alternatives recognize the need to restore habitat essential to the recovery of listed species, while also protecting those habitats and conditions that currently support a diverse and abundant array of migratory birds. The selected alternatives also balance the need to protect habitat with the need to provide the public with the opportunity to experience and enjoy the resources being protected.

Dated: October 18, 2006.
Steve Thompson,
Manager, California/Nevada Operations, Sacramento, California.

[FR Doc. E6-18373 Filed 11-1-06; 8:45 am]

BILLING CODE 4310-55-P